DEPARTMENT OF TRANSPORTATION

Federal Aviation Administration

14 CFR Part 39

[Docket No. 2002-NM-247-AD]

RIN 2120-AA64

Airworthiness Directives; Airbus Model A330 Series Airplanes; Airbus Model A340-300 Series Airplanes; and Airbus Model A340-541 Airplanes

AGENCY: Federal Aviation Administration, DOT.

ACTION: Notice of proposed rulemaking (NPRM).

SUMMARY: This document proposes the adoption of a new airworthiness directive (AD) that is applicable to certain Airbus Model A330 series airplanes; Airbus Model A340-300 series airplanes; and Airbus Model A340-541 airplanes. This proposal would require lubrication of the upper and lower shortening mechanism (SM) link of the main landing gear, and consequent detection of resistance or blockage of the greaseway. Depending upon the resistance finding and upon whether or not the airplane has a certain modification, this proposal would require various other actions including unblocking the greaseway; accomplishing any necessary repairs; performing various inspections; and accomplishing the eventual replacement of the SM8 pin, if necessary. This action is necessary to prevent failure of the landing gear lengthening system, which could result in reduced controllability of the airplane on the ground during landing. This action is intended to address the identified unsafe condition.

DATES: Comments must be received by May 3, 2004.

ADDRESSES: Submit comments in triplicate to the Federal Aviation Administration (FAA), Transport Airplane Directorate, ANM-114, Attention: Rules Docket No. 2002-NM-247-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-247-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Gary Lium, Aerospace Engineer, International Branch, ANM-116, FAA, Transport Airplane Directorate, 1601 Lind Avenue, SW., Renton, Washington 98055-4056; telephone (425) 227-1112; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-247-AD.” The postcard will be date stamped and returned to the commenter.

Availability of NPRMs

Any person may obtain a copy of this NPRM by submitting a request to the FAA, Transport Airplane Directorate, ANM-114, Attention: Rules Docket No. 2002-NM-247-AD, 1601 Lind Avenue, SW., Renton, Washington 98055-4056.

Discussion

The Direction Générale de l'Aviation Civile (DGAC), which is the airworthiness authority for France, notified the FAA that an unsafe condition may exist on certain Airbus Model A330 series airplanes; Airbus Model A340-300 series airplanes; and Airbus Model A340-541 airplanes. The DGAC advises that on approach, after landing gear extension, the crew of an Airbus Model A330 series airplane received a warning of “Landing Gear LH Lengthening Fault,” and an advisory message to keep the landing gear lever down. An inspection of the landing gear after the airplane landed showed that the left-hand (LH) main landing gear (MLG) was completely compressed. Investigation found that the LH shortening mechanism (SM) proximity sensor was not in the proper position, which was caused by the failure of the connecting link. The link failure was caused by corrosion on the non-nickel underchrome SM8 pin due to poor lubrication. This condition, if not corrected, could result in failure of the landing gear lengthening system, which could cause reduced controllability of the airplane on the ground during landing.

Explanation of Relevant Service Information

Airbus has issued All Operators Telex (AOT) 32A3151, dated March 26, 2002; and AOT 32A4189, dated March 26, 2002. These AOTs describe procedures for lubricating the upper and lower SM links and consequent detection of discrepancies (resistance or blockage) in the greaseway.

For airplanes on which Airbus Modification 46904 has been incorporated, that have a discrepant greaseway, or for airplanes on which Airbus Modification 46904 has not been incorporated (whether or not it has a discrepant greaseway); the AOTs describe procedures for performing a detailed inspection of the SM8 pin for damage or corrosion, unblocking any blocked greaseway, and replacing any damaged or corroded pin with a new part.

For airplanes on which Airbus Modification 46904 has not been incorporated, that have a discrepant greaseway, the AOTs describe additional procedures for performing a general visual inspection of the SM8 end caps to determine the presence and correct installation of certain parts, and to measure the gap of the end caps to the outer flanges of the bushes in the lower SM link; unblocking the blocked greaseway and making any necessary repairs; and repeating the general visual inspection, if necessary, until the affected part is repaired.

The DGAC classified these AOTs as mandatory and issued French airworthiness directive 2002-262(B) R1, dated January 8, 2003; and French airworthiness directive 2002-265(B) R2, dated January 8, 2003; to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the AOTs described previously, except as discussed below.

Difference Between the AOTs and the Proposed AD

Although the AOTs specify to report inspection results to the manufacturer, this AD does not include such a requirement.

Interim Action

We consider this proposed AD interim action. If final action is later identified, we may consider further rulemaking then.

Cost Impact

The FAA estimates that 9 Model A330 airplanes of U.S. registry would be affected by this proposed AD, that it would take approximately 1 work hour per airplane to accomplish the proposed lubrication, and that the average labor rate is $65 per work hour. Based on these figures, the cost impact of the lubrication proposed by this AD on U.S. operators of these airplanes is estimated to be $585, or $65 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no affected Model A340 airplanes on the U.S. Register. However, if an affected airplane is imported and placed on the U.S. Register in the future, it would take approximately 1 work hour per airplane to accomplish the proposed lubrication at an average labor rate of $65 per work hour. Based on these figures, we estimate the cost of the lubrication proposed by this AD for these airplanes to be $65 per airplane.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2002-NM-247-AD.

Applicability: Model A330 series airplanes; Model A340-300 series airplanes; and Model A340-541 airplanes; having a date of issuance of the original Airworthiness Certificate or the date of issuance of the Export Certificate of Airworthiness (whichever occurs later) of May 24, 2002, or earlier; certificated in any category.

Compliance: Required as indicated, unless accomplished previously.

To prevent failure of the landing gear lengthening system, which could result in reduced controllability of the airplane on the ground during landing, accomplish the following:

All Operators Telex Reference

(a) The term “all operators telex,” or “AOT,” as used in this AD, means the Short-Term Action section of the following AOTs, as applicable:

(1) For Model A330 series airplanes: Airbus AOT 32A3151, dated March 26, 2002; and

(2) For Model A340 series airplanes, and Model A340-541 airplanes: Airbus AOT 32A4189, dated March 26, 2002.

Lubrication

(b) At the later of the compliance times in paragraphs (b)(1) and (b)(2) of this AD: Lubricate the upper and lower shortening mechanism (SM) link of the main landing gear in accordance with the applicable AOT.

(1) Within 6 months after the date of issuance of the original Airworthiness Certificate or the date of issuance of the Export Certificate of Airworthiness, whichever occurs first.

(2) Within 700 flight hours or 60 days after the effective date of this AD, whichever occurs first.

(c) If, during the lubrication required by paragraph (b) of this AD, there is no noticeable resistance or blockage of the greaseway, do paragraph (c)(1) or (c)(2) of this AD, as applicable.

(1) If Airbus Modification 46904 has been accomplished, no further action is required by this AD.

(2) If Airbus Modification 46904 has not been accomplished, do the applicable inspection and any necessary corrective action in paragraph (e) of this AD.

(d) If, during the lubrication required by paragraph (b) of this AD, there is noticeable resistance or blockage of the greaseway: Before further flight, do the applicable inspection and any necessary corrective action in paragraphs (e) and (f) of this AD.

Inspections and Corrective Action

(e) For airplanes on which Airbus Modification 46904 has been incorporated that have a discrepant greaseway per paragraph (d) of this AD; and for airplanes on which Airbus Modification 46904 has not been incorporated that do not have a discrepant greaseway: Before further flight following the lubrication required by paragraph (b) of this AD, do a general visual inspection for clearance of the end caps of the SM8 pin, and the presence of the split pin, the nut, the end caps, and the bolts; in accordance with paragraph 4.2.2 of the applicable AOT.

(1) If the combined gap of both end caps to the outer flanges of the bushes in the lower SM is less than 0.75 mm: Before further flight, make any necessary repairs and unblock the any blocked greaseway, in accordance with the applicable AOT.

(2) If the inspection required by paragraph (e) of this AD reveals a migration of the SM8 pin end caps to a gap of 0.75 mm to 3.0 mm: Before further flight, unblock any blocked greaseway, and repeat the inspection required by paragraph (e) of this AD at intervals not to exceed 20 flight cycles until paragraph (e)(3) of this AD is accomplished.

(3) If the inspection required by paragraph (e) of this AD reveals a migration of the SM8 pin end caps to a gap of 3.0 mm or greater: Before further flight, remove the SM8 pin, and perform a general visual inspection of the SM upper link, SM lower link, and SM8 pin for damage or blockage, and make any necessary repairs before further flight in accordance with the applicable AOT.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Detailed Inspections and Corrective Actions

(f) If noticeable resistance or blockage of the greaseway is noted during the lubrication required by paragraph (b) of this AD: Within 700 flight hours after the effective date of this AD, do a detailed inspection of the SM8 pin for damage or corrosion; unblock any blocked greaseway; and replace any damaged or corroded pin with a new part; in accordance with the applicable AOT.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

No Reporting Requirements

(g) Although the AOTs referenced in this AD specifies to report inspection results to the manufacturer, this AD does not include such a requirement.

Alternative Methods of Compliance

(h) In accordance with 14 CFR 39.19, the Manager, International Branch, ANM-116, FAA, Transport Airplane Directorate is authorized to approve alternative methods of compliance for this AD.

Note 3: The subject of this AD is addressed in French airworthiness directives 2002-262(B) R1, and 2002-265(B) R2, both dated January 8, 2003.

Issued in Renton, Washington, on March 19, 2004.
Kevin M. Mullin,
Acting Manager, Transport Airplane Directorate, Aircraft Certification Service.

[FR Doc. 04-7357 Filed 3-31-04; 8:45 am]

BILLING CODE 4910-13-P